DEPARTMENT OF THE INTERIOR

Fish and Wildlife Service

[FW-HQ-WSFR-2015-N036; FVWF97820900000-XXX-FF09W13000 and FVWF54200900000-XXX-FFO9W13000]

Proposed Information Collection; National Survey of Fishing, Hunting, and Wildlife-Associated Recreation (FHWAR)

AGENCY: Fish and Wildlife Service, Interior.

ACTION: Notice; request for comments.

SUMMARY: We (U.S. Fish and Wildlife Service) will ask the Office of Management and Budget (OMB) to approve the information collection (IC) described below. As required by the Paperwork Reduction Act of 1995 and as part of our continuing efforts to reduce paperwork and respondent burden, we invite the general public and other Federal agencies to take this opportunity to comment on this IC. We may not conduct or sponsor and a person is not required to respond to a collection of information, unless it displays a currently valid OMB control number.

DATES: To ensure that we are able to consider your comments on this IC, we must receive them by April 20, 2015.

ADDRESSES: Send your comments on the IC to the Service Information Collection Clearance Officer, U.S. Fish and Wildlife Service, MS BPHC, 5275 Leesburg Pike, Falls Church, VA 22041-3803 (mail); or hope_grey@fws.gov (email). Please include “1018-0088” in the subject line of your comments.

FOR FURTHER INFORMATION CONTACT: To request additional information about this IC, contact Hope Grey at hope_grey@fws.gov (email) or 703-358-2482 (telephone).

SUPPLEMENTARY INFORMATION:

I. Abstract

The information collected for the National Survey of Fishing, Hunting and Wildlife-Associated Recreation (FHWAR) assists the Fish and Wildlife Service in administering the Wildlife and Sport Fish Restoration grant programs. The 2016 FHWAR will provide up-to-date information on the uses and demands for wildlife-related recreation resources, trends in uses of those resources, and a basis for developing and evaluating programs and projects to meet existing and future needs.

We collect the information in conjunction with carrying out our responsibilities under the Federal Aid in Sport Fish Restoration Act (16 U.S.C. 777-777m), commonly referred to as the Dingell-Johnson Act, and the Federal Aid in Wildlife Restoration Act (16 U.S.C. 669-669i), commonly referred to as the Pittman-Robertson Act. Under these acts, as amended, we provide approximately $1 billion in grants annually to States for projects that support sport fish and wildlife management and restoration, including:

• Improvement of fish and wildlife habitats,

• Fishing and boating access,

• Fish stocking, and

• Hunting and fishing opportunities.

We also provide grants for aquatic education and hunter education, maintenance of completed projects, and research into problems affecting fish and wildlife resources. These projects help to ensure that the American people have adequate opportunities for fish and wildlife recreation.

We conduct the survey about every 5 years. The 2016 FHWAR will be the 13th conducted since 1955. We sponsor the survey at the States' request, which is made through the Association of Fish and Wildlife Agencies. We contract with the Census Bureau, which collects the information using computer-assisted telephone or in-person interviews. The Census Bureau will select a sample of sportspersons and wildlife watchers from a household screen and conduct three detailed interviews during the survey year. The survey collects information on the number of days of participation, species of animals sought, and expenditures for trips and equipment. Information on the characteristics of participants includes age, income, sex, education, race, and State of residence.

Federal and State agencies use information from the survey to make policy decisions related to fish and wildlife restoration and management. Participation patterns and trend information help identify present and future needs and demands. Land managing agencies use the data on expenditures and participation to assess the value of wildlife-related recreational uses of natural resources. Wildlife-related recreation expenditure information is used to estimate the economic impact on the economy and to support the dedication of tax revenues for fish and wildlife restoration programs.

II. Data

OMB Control Number: 1018-0088.

Title: National Survey of Fishing, Hunting, and Wildlife-Associated Recreation (FHWAR).

Service Form Number: None.

Type of Request: Reinstatement with change of a previously approved collection.

Description of Respondents: Individuals and households.

Respondent's Obligation: Voluntary.

Frequency of Collection: Pre-screener internet/paper questionnaire data collection will be conducted in January 2016. Household screen interviews and the first detailed sportsperson and wildlife-watcher interviews will be conducted April-June 2016. The second detailed interviews will be conducted September-October 2016. The third and last detailed interviews will be conducted January-March 2017.

Activity | Number of household responses | Number of participant respondents | Completion time per response (minutes) | Annual burden hours
Pre-screener | 6,970 |  | 5 | 581
Screener | 7,040 |  | 7 | 821
Wave 1 Sportsperson interviews |  | 1,505 | 11 | 276
Wave 2 Sportsperson interviews |  | 2,580 | 15 | 645
Wave 3 Sportsperson interviews |  | 4,444 | 35 | 2,592
Wave 1 Wildlife Watching interviews |  | 1,252 | 11 | 230
Wave 2 Wildlife Watching interviews |  | 2,146 | 11 | 393
Wave 3 Wildlife Watching interviews |  | 3,697 | 20 | 1,232
Totals | 14,010 | 15,624 |  | 6,770

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: February 11, 2015.
Tina A. Campbell,
Chief, Division of Policy, Performance, and Management Programs, U.S. Fish and Wildlife Service.

[FR Doc. 2015-03237 Filed 2-17-15; 8:45 am]

BILLING CODE 4310-55-P